COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by the nonprofit agency employing persons who are blind or have other severe disabilities, and deletes products and a service previously furnished by such agencies.

DATES: Comments must be received on or before: August 5, 2018.

ADDRESSES: Committee for Purchase From People Who Are Blind or Severely Disabled, 1401 S Clark Street, Suite 715, Arlington, Virginia, 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agency employing persons who are blind or have other severe disabilities.

The following products are proposed for addition to the Procurement List for production by the nonprofit agency listed:

Products

NSN(s)—Product Name(s):

5180-01-516-3218—Tool Kit, Weapon Cleaning, Rifle, 7.62mm

5180-01-516-3219—Tool Kit, Weapon Cleaning, Rifle, M4/M16

5180-01-516-3220—Tool Kit, Weapon Cleaning, Pistol and Sub-Guns, 9mm—.45 Caliber

5180-01-516-3222—Tool Kit, Weapon Cleaning, Combat Shotgun, 10/12 Gauge

5180-01-516-3224—Tool Kit, Weapon Cleaning, Rifle, .50 Caliber

5180-01-516-3225—Tool Kit, Weapon Cleaning, Deluxe Pistol/Sub-Gun/Rifle/Shotgun

5180-01-516-3227—Tool Kit, Weapon Cleaning, Pistols and Sub-Guns

Mandatory for: Broad Government Requirement

Mandatory Source of Supply: South Texas Lighthouse for the Blind, Corpus Christi, TX

Contracting Activity: GSA/FSS Tools Acquisition Division I

Distribution: B-List

Deletions

The following products and service are proposed for deletion from the Procurement List:

Products

NSN(s)—Product Name(s):

7930-01-648-5018—Floor Finish/Sealer, Black, Water-Based, Slip-Resistant, Asphalt Floors, 5 Gal. Can

7930-01-648-6105—Floor Finish/Sealer, Black, Water-Based, Slip-Resistant, Asphalt Floors, 4/1 Gal. Bottles

Mandatory Source of Supply: Lighthouse for the Blind of Houston, Houston, TX

Contracting Activity: General Services Administration, Fort Worth, TX

NSN(s)—Product Name(s): 7530-01-611-6426—Steno Book, 60 Pages, 6″ x 9″, Green

Mandatory Source of Supply: Alabama Industries for the Blind, Talladega, AL

Contracting Activity: General Services Administration, New York, NY

NSN(s)—Product Name(s): 7510-00-307-7885—Refill, Eraser, Mechanical Pencil, Grey

Mandatory Source of Supply: San Antonio Lighthouse for the Blind, San Antonio, TX

Contracting Activity: General Services Administration, New York, NY

Service

Service Type: Administrative Service

Mandatory for: National Advocacy Center, 1620 Pendleton Street, Columbia, SC

Mandatory Source of Supply: UNKNOWN

Contracting Activity: Dept of Justice, Offices, Boards and Divisions,

Amy Jensen,
Director, Business Operations.

[FR Doc. 2018-14530 Filed 7-5-18; 8:45 am]

BILLING CODE 6353-01-P